POSTAL REGULATORY COMMISSION

[Docket No. CP2009-38; Order No. 671]

Changes in Contractual Priority Mail Prices

AGENCY: Postal Regulatory Commission.

ACTION: Notice.

SUMMARY: The Commission is noticing a recently-filed Postal Service notice concerning an amendment to a Priority Mail contract. This document provides public notice of the proposed change and addresses related procedural steps.

DATES: Comments are due: February 18, 2011.

ADDRESSES: Submit comments electronically by accessing the “Filing Online” link in the banner at the top of the Commission's Web site (http://www.prc.gov) or by directly accessing the Commissions' Filing Online system at https://www.prc.gov/prc-pages/filing-online/login.aspx. Commenters who cannot submit their view electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION:

Table of Contents

I. Introduction

II. Notice of Filings

III. Ordering Paragraphs

I. Introduction

On February 9, 2011, the Postal Service filed notice of a change in prices pursuant to an amendment to Priority Mail Contract 12.¹ The Notice includes three attachments: Attachment A—a redacted version of the amendment to Priority Mail Contract 12; Attachment B—a certified statement of compliance with 39 U.S.C. 3633(a); and Attachment C—an application for non-public treatment and a redacted version of the supporting financial documentation. In addition, the Postal Service filed the unredacted amendment to the contract and supporting financial documentation under seal. Id. at 1.

¹ Notice of United States Postal Service of Change in Prices Pursuant to Amendment to Priority Mail Contract 12, February 9, 2011 (Notice).

Substantively, the Notice seeks approval of an amendment to the prices for Priority Mail Contract 12 while keeping the contract's existing duration. Id., Attachment A.² The Postal Service states that the price amendment will become effective the day the Commission completes its review of the Notice. Notice at 1.

² Priority Mail Contract 12 was originally approved in this docket by Order No. 232, Order Concerning Priority Mail Contract 12 Negotiated Service Agreement, July 1, 2009.

II. Notice of Filings

The Commission reopens Docket No. CP2009-38 for consideration of the issues raised by the Notice. Interested persons may submit comments on whether these recent Postal Service filings in this docket are consistent with the policies of 39 U.S.C. 3632, 3633, or 3642 and 39 CFR part 3015. Comments are due no later than February 18, 2011. The public portions of these filings can be accessed via the Commission's Web site (http://www.prc.gov).

The Commission appoints Diane K. Monaco to serve as Public Representative in this proceeding.

III. Ordering Paragraphs

It is ordered:

1. The Commission reopens Docket No. CP2009-38 for consideration of the matters raised by the amendment to Priority Mail Contract 12.

2. Pursuant to 39 U.S.C. 505, Diane K. Monaco is appointed to serve as officer of the Commission (Public Representative) to represent the interests of the general public for this aspect of this docket.

3. Comments by interested persons in these proceedings are due no later than February 18, 2011.

4. The Secretary shall arrange for publication of this notice and order in the Federal Register.

By the Commission.
Ruth Ann Abrams,
Acting Secretary.

[FR Doc. 2011-3553 Filed 2-16-11; 8:45 am]

BILLING CODE 7710-FW-P